DEPARTMENT OF HOMELAND SECURITY

Coast Guard

[Docket No. USCG-2016-0301]

Navigation Safety Advisory Council

AGENCY: Coast Guard, DHS.

ACTION: Notice of Federal Advisory Committee meeting.

SUMMARY: The Navigation Safety Advisory Council will meet in Arlington, Virginia to discuss matters relating to maritime collisions, rammings, and groundings, Inland Rules of the Road, International Rules of the Road, navigation regulations and equipment, routing measures, marine information, diving safety, and aids to navigation systems. These meetings will be open to the public.

DATES: The Navigation Safety Advisory Council will meet on Wednesday, May 4, 2016, from 9:30 a.m. to 5:30 p.m., and on Thursday, May 5, 2016, from 8 a.m. to 5:30 p.m. Please note these meetings may close early if the Council has completed its business.

ADDRESSES: The meeting will be held at the Holiday Inn Arlington at Ballston, 4610 Fairfax Drive, Arlington VA 22203.

https://www.holidayinn.com/hotels/us/en/arlington/wasfx/hoteldetail/directions

For information on the meeting facility or services for individuals with disabilities or to request special assistance at the meeting, contact Mr. Burt Lahn listed in the FOR FURTHER INFORMATION CONTACT section below as soon as possible.

To facilitate public participation, we are inviting public comment on the issues to be considered by the Council as listed in the “Agenda” section below. Written comments for distribution to the Council members must be submitted no later than April 26, 2016 if you want Council members to be able to review your comments before the meeting, and must be identified by the docket number, USCG-2016-0301. Written comments may be submitted using Federal eRulemaking Portal: http://www.regulations.gov. If your material cannot be submitted using http://www.regulations.gov, contact Mr. Lahn for alternate instructions.

Instructions: All submissions received must include the words “Department of Homeland Security” and the docket number for this action, USCG 2016-0301. Comments received will be posted without alteration at http://www.regulations.gov, including any personal information provided. You may review a Privacy Act notice regarding the Federal Docket Management System in the March 24, 2005, issue of the Federal Register (70 FR 15086).

Docket: For access to the docket to read documents or comments related to this notice, go to http://www.regulations.gov insert USCG-2016-0301 in the Search box, press Enter, and then click on the item you wish to view.

A public comment period will be held during the meeting on May 4, 2016, from 5 p.m. to 5:30 p.m. and on May 5, 2016, prior to the close of the meeting. Public presentations may also be given. Speakers are requested to limit their presentation and comments to 10 minutes. Please note that the public comment period may end before the time indicated, following the last call for comments. To register as a speaker, contact Mr. Burt Lahn listed in the FOR FURTHER INFORMATION CONTACT section below.

FOR FURTHER INFORMATION CONTACT: If you have questions about these meetings, please contact Mr. George Detweiler, the Navigation Safety Advisory Council Alternate Designated Federal Officer, Commandant (CG-NAV-2), U.S. Coast Guard, 2703 Martin Luther King Jr. Avenue SE., Stop 7418, Washington, DC 20593, telephone 202-372-1566 or email George.H.Detweiler@uscg.mil or Mr. Burt Lahn, Commandant (CG-NAV-2), U.S. Coast Guard, 2703 Martin Luther King Jr. Avenue SE., Stop 7418, Washington, DC 20593, at telephone 202-372-1526 or email Burt.A.Lahn@uscg.mil.

SUPPLEMENTARY INFORMATION: Notice of this meeting is given under the Federal Advisory Committee Act, Title 5 United States Code, Appendix.

The Navigation Safety Advisory Council is an advisory committee authorized in 33 U.S.C. 2073 and chartered under the provisions of the Federal Advisory Committee Act. The Navigation Safety Advisory Council provides advice and recommendations to the Secretary, through the Commandant of the U.S. Coast Guard, on matters relating to prevention of maritime collisions, rammings, and groundings, Inland and International Rules of the Road, navigation regulations and equipment, routing measures, marine information, diving safety, and aids to navigation systems.

Agenda

Wednesday, May 4, 2016: The Navigation Safety Advisory Council will receive presentations on the following topics:

(1) National Oceanic and Atmospheric Administration—Future of Navigation Strategy: National Oceanic and Atmospheric Administration Office of Coast Survey will provide a briefing on National Oceanic and Atmospheric Administration Future of Navigation Strategy;

(2) Coast Guard Future of Navigation initiative: The Council will receive an update on this ongoing initiative that leverages technology in order to optimize the mix of electronic and visual aids to navigation;

(3) Electronic Charting Systems: The Coast Guard will provide an update on the use of Electronic Charting Systems, and brief the Council on the recently published Navigation and Vessel Inspection Circular 01-16; which outlines the use of Electronic Charts and publications in lieu of paper charts, maps, and publications; and

(4) Port Access Route Studies. The Coast Guard will provide an update on Port Access Route Studies. The presentation will include the final report from the Atlantic Coast Port Access Route Study, an update from the ongoing Bering Straights Port Access Route Study, and a briefing on the recently initiated Nantucket Sound Port Access Route Study.

Following the above presentations, the Designated Federal Officer will form subcommittees to continue discussions on the following task statements:

(1) Navigation Safety Advisory Council Task 15-01 Unmanned Maritime Systems Best Practices;

(2) Navigation Safety Advisory Council Task 15-04 Discontinuance of an Aid to Navigation; and

(3) Navigation Safety Advisory Council Task 15-05 Electronic Chart Systems.

Public comments or questions will be taken during the meeting as the Council discusses each issue and prior to the Council formulating recommendations on each issue. There will also be a public comment period at the end of the meeting.

Thursday, May 5, 2016

(1) Subcommittee discussions continued from Wednesday, May 4, 2016;

(2) Subcommittee reports presented to the Council;

(3) New Business; and

a. Summary of Navigation Safety Advisory Council action items.

b. Schedule next meeting date—Fall, 2016.

c. Council discussions and acceptance of new tasks.

A public comment period will be held after the discussion of new tasks. Speakers are requested to limit their comments to 10 minutes each. Public comments or questions will be taken at the discretion of the Designated Federal Officer during the discussion and recommendations, and new business portion of the meeting. Please contact Mr. Lahn, listed in the FOR FURTHER INFORMATION CONTACT section, to register as a speaker.

Dated: April 13, 2016.
D.C Barata,
Captain, U.S. Coast Guard, Acting Director, Marine Transportation Systems.

[FR Doc. 2016-09021 Filed 4-18-16; 8:45 am]

BILLING CODE 9110-04-P